DEPARTMENT OF TRANSPORTATION

Surface Transportation Board

[Docket No. EP 519 (Sub-No. 5)]

Notice of National Grain Car Council Meeting

AGENCY: Surface Transportation Board, DOT.

ACTION: Notice of National Grain Car Council meeting.

SUMMARY: Notice is hereby given of a meeting of the National Grain Car Council (NGCC), pursuant to section 10(a)(2) of the Federal Advisory Committee Act, Pub. L. No. 92-463, as amended (5 U.S.C., App. 2).

DATES: The meeting will be held on Thursday, September 13, 2012, beginning at 1:00 p.m. (CDT) and is expected to conclude at 5:00 p.m. (CDT).

ADDRESSES: The meeting will be held at the Four Seasons Resort at Las Colinas, 4150 North MacArthur Boulevard, Irving, TX 75038. Phone 972-717-0700, Fax 972-717-2550.

FOR FURTHER INFORMATION CONTACT: Thomas Brugman at (202) 245-0281. [Assistance for the hearing impaired is available through the Federal Information Relay Service (FIRS) at: (800) 877-8339].

SUPPLEMENTARY INFORMATION: The NGCC arose from a proceeding instituted by the Surface Transportation Board's predecessor agency, the Interstate Commerce Commission (ICC), in National Grain Car Supply—Conference of Interested Parties, EP 519. The NGCC was formed as a working group to facilitate private-sector solutions and recommendations to the ICC (and now the Board) on matters affecting grain transportation.

The general purpose of this meeting is to discuss rail carrier preparedness to transport the 2012 fall grain harvest. Agenda items include the following: Remarks by Board Chairman Daniel R. Elliott III, Vice-Chairman Francis P. Mulvey (who, together with Brad Hildebrand, Assistant Vice President of Cargill AgHorizons, serves as Co-Chairman for the NGCC), and Commissioner Ann D. Begeman; reports by rail carriers and shippers on grain-service related issues; a report by rail car manufacturers and lessors on current and future availability of various grain-car types; a presentation by the U.S. Department of Agriculture regarding the changes in rail market share of grain and oilseed transportation; a presentation by the Association of American Railroads about rail time indicators; an update on railroad agricultural contract filings; and an open forum for audience and members to discuss topics of interest related to the agenda. The full agenda, along with other information regarding the NGCC, is posted on the Board's Web site at http://www.stb.dot.gov/stb/rail/graincar_council.html.

The meeting, which is open to the public, will be conducted pursuant to the NGCC's charter and Board procedures. Further communications about this meeting may also be announced through the Board's Web site.

This action will not significantly affect either the quality of the human environment or the conservation of energy resources.

Decided: August 17, 2012.
By the Board, Rachel D. Campbell, Director, Office of Proceedings.
Jeffrey Herzig,
Clearance Clerk.

[FR Doc. 2012-20664 Filed 8-21-12; 8:45 am]

BILLING CODE 4915-01-P